DEPARTMENT OF TRANSPORTATION

Maritime Administration

[Docket No. DOT-MARAD 2014—0134]

Request for Comments of a Previously Approved Information Collection: Determination of Fair and Reasonable Rates for the Carriage of Agricultural Cargoes on U.S. Commercial Vessels

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on July 7, 2014 (Federal Register Vol. 79, No 129, 38355).

DATES: Comments must be submitted on or before November 19, 2014.

FOR FURTHER INFORMATION CONTACT: Albert Bratton, Telephone Number: (202) 366-5769, Office of Financial Approvals, Maritime Administration, U.S. Department of Transportation, 1200 New Jersey Avenue SE., Washington, DC 20590.

SUPPLEMENTARY INFORMATION:

Title: Determination of Fair and Reasonable Rates for the Carriage of Agricultural Cargoes on U.S. Commercial Vessels—46 CFR.

OMB Control Number: 2133-0514.

Type of Request: Renewal of a Previously Approved Information Collection.

Abstract: This collection of information requires U.S.-flag operators to submit annual vessel operating costs and capital costs data to Maritime Administration officials. The information is used by the Maritime Administration in determining fair and reasonable guideline rates for the carriage of preference cargoes on U.S.-flag vessels. In addition, U.S.-flag vessel operators are required to submit Post Voyage Reports to the Maritime Administration after completion of a cargo preference voyage.

Affected Public: U.S. citizens who own and operate U.S.-flag vessels.

Estimated Number of Respondents: 51.

Estimated Number of Responses: 102.

Annual Estimated Total Annual Burden Hours: 306.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: October 14, 2014.
Julie P. Agarwal,
Secretary, Maritime Administration.

[FR Doc. 2014-24822 Filed 10-17-14; 8:45 am]

BILLING CODE 4910-81-P